FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than February 11, 2021.

A. Federal Reserve Bank of Kansas City (Dennis Denney, Assistant Vice President) 1 Memorial Drive, Kansas City, Missouri 64198-0001:

1. Jeremy Brian McHugh, Donielle Eileen McHugh, Nathan Donald McHugh, and Kristina Lee McHugh, all of Murdock, Nebraska; as a group acting in concert, to retain voting shares of McHugh Investment Company, Murdock, Nebraska, and thereby indirectly retain voting shares of Corn Growers State Bank, Murdock, Nebraska.

2. Thomas M. Annesley, Norman, Oklahoma, as trustee of the Roy T. Oliver and Rebecca L. Oliver 2020 Irrevocable Trust, Oklahoma City, Oklahoma, and a member of the Oliver Family Group; to become the largest individual shareholder by acquiring additional voting shares of Valliance Financial Corp., and thereby indirectly acquire voting shares of Valliance Bank, both of Oklahoma City, Oklahoma.

In addition, The Roy T. Oliver and Rebecca L. Oliver 2020 Irrevocable Trust to join the Oliver Family Group, a group acting in concert, by acquiring shares of Valliance Financial Corp.

3. Larry Adams, Chambers, Nebraska, individually as the largest shareholder, as trustee of the Patrick Adams Testamentary Trust and the S and B Trust, both of Chambers, Nebraska, and as a member of the Adams Family Group, a group acting in concert; to retain voting shares of Chambanco, Inc., and thereby indirectly retain shares of Chambers State Bank, both of Chambers, Nebraska.

In addition, Patrick Adams, individually, the Patrick Adams Testamentary Trust, and the S and B Trust, all of Chambers, Nebraska; to join the Adams Family Group Chambanco, Inc., and thereby indirectly retain shares of Chambers State Bank.

B. Federal Reserve Bank of St. Louis (David L. Hubbard, Senior Manager) P.O. Box 442, St. Louis, Missouri 63166-2034. Comments can also be sent electronically to Comments.applications@stls.frb.org:

1. Carl W. Adams, Jr., Port Charlotte, Florida, individually and as trustee of the Carl W. Adams, Jr. Revocable Living Trust; Curtis Adams, Deborah Adams, and Caitlyn Adams, all of Quincy, Illinois; Collin Adams, Iowa City, Iowa; Craig Adams and his minor children, Heidi Adams and Jacob Adams, all of Clive, Iowa; Curt Hilbing and his minor child, and Crystal Hilbing and her minor children, all of Quincy, Illinois; to retain voting shares of First Bankers Trustshares, Inc., and thereby indirectly retain voting shares of First Bankers Trust Company, N.A., both of Quincy, Illinois.

Board of Governors of the Federal Reserve System, January 22, 2021.
Michele Taylor Fennell,
Deputy Associate Secretary of the Board.

[FR Doc. 2021-01808 Filed 1-26-21; 8:45 am]

BILLING CODE P